DEPARTMENT OF COMMERCE

Foreign-Trade Zones Board

[B-39-2018]

Foreign-Trade Zone (FTZ) 106—Oklahoma City, Oklahoma; Authorization of Production Activity; Eastman Kodak Company (Printing Flexographic Plates), Weatherford, Oklahoma

On June 13, 2018, Eastman Kodak Company submitted a notification of proposed production activity to the FTZ Board for its facility within Subzone 106F, in Weatherford, Oklahoma.

The notification was processed in accordance with the regulations of the FTZ Board (15 CFR part 400), including notice in the Federal Register inviting public comment (83 FR 29541, June 25, 2018). On October 11, 2018, the applicant was notified of the FTZ Board's decision that no further review of the activity is warranted at this time. The production activity described in the notification was authorized, subject to the FTZ Act and the FTZ Board's regulations, including Section 400.14.

Dated: October 11, 2018.
Andrew McGilvray,
Executive Secretary.

[FR Doc. 2018-22583 Filed 10-16-18; 8:45 am]

BILLING CODE 3510-DS-P